AGENCY FOR INTERNATIONAL DEVELOPMENT

Notice of Meeting

Pursuant to the Federal Advisory Committee Act, notice is hereby given of a meeting of the Advisory Committee on Voluntary Foreign Aid (ACVFA).

Date: February 20, 2002 (9 a.m. to 5 p.m.).

Location: Grand Hyatt Washington, 1000 H Street, NW, Washington, D.C.

This meeting will feature discussion of the situation in Afghanistan and plans for the country's reconstruction. Participants will have an opportunity to ask questions of the speakers and to discuss the issues in more depth in small groups.

The meeting is free and open to the public. Persons wishing to attend the meeting can fax or e-mail their name to Larritus Jackson, 202-347-9212, pvcsupport@datexinc.com.

Dated: February 11, 2002.
Noreen O'Meara,
Executive Director, Advisory Committee on Voluntary Foreign Aid (ACVFA).

[FR Doc. 02-3705 Filed 2-14-02; 8:45 am]

BILLING CODE 6116-01-M